SECURITIES AND EXCHANGE COMMISSION

[Release No. 34-49316; File No. SR-FICC-2003-11]

Self-Regulatory Organizations; Fixed Income Clearing Corporation; Notice of Filing and Immediate Effectiveness of a Proposed Rule Change Relating to Notification Obligations

February 24, 2004.

Pursuant to Section 19(b)(1) of the Securities Exchange Act of 1934 (“Act”),¹ notice is hereby given that on October 30, 2003, the Fixed Income Clearing Corporation (“FICC”) filed with the Securities and Exchange Commission (“Commission”) the proposed rule change as described in Items I, II, and III below, which Items have been prepared primarily by FICC. On October 30, 2003, FICC also filed an amendment to the proposed rule change. The Commission is publishing this notice to solicit comments on the proposed rule change, as amended, from interested persons.

¹ 15 U.S.C. 78s(b)(1).

I. Self-Regulatory Organization's Statement of the Terms of Substance of the Proposed Rule Change

The proposed rule change will modify the rules of FICC's Government Securities Division (“GSD”) and the Mortgage-Backed Securities Division (“MBSD”) so that notices disseminated to members in an electronic format will satisfy each Division's notification obligations.

II. Self-Regulatory Organization's Statement of the Purpose of, and Statutory Basis for, the Proposed Rule Change

In its filing with the Commission, FICC included statements concerning the purpose of and basis for the proposed rule change and discussed any comments it received on the proposed rule change. The text of these statements may be examined at the places specified in Item IV below. FICC has prepared summaries, set forth in sections A, B, and C below, of the most significant aspects of such statements.²

² The Commission has modified the text of the summaries prepared by FICC.

A. Self-Regulatory Organization's Statement of the Purpose of, and Statutory Basis for, the Proposed Rule Change

Currently, GSD's rules require Important Notices to be delivered to members in hard copy format via U.S. mail, facsimile, or by hand delivery only when specifically requested in writing by a member. MBSD's rules do not currently provide for a specific method of delivering Important Notices to members.

FICC believes that delivering Important Notices by e-mail is an effective and timely method of communicating important information to members. FICC now proposes to change the GSD's and MBSD's rules in an identical manner so that GSD and MBSD have explicit authority to do so.

In addition to the above, FICC proposes to amend GSD's rules to (i) eliminate the provision that allows members to request hand delivery of Important Notices and (ii) permit delivery of notices to members by posting the notices on FICC's Web site and have these postings satisfy FICC's notification obligations. FICC believes that given the other methods of providing notices, hand delivery is no less optimal because it is a burdensome process for both FICC and members. No FICC member has requested hand-delivery of Important Notices. Members will be able to readily access all FICC important notices by accessing FICC's Web site at http://www.ficc.com.

FICC believes that the proposed rule change is consistent with the requirements of the Act and the rules and regulations thereunder because it will facilitate the timely dissemination of information necessary for participation in FICC's services.

B. Self-Regulatory Organization's Statement on Burden on Competition

FICC does not believe that the proposed rule change will have any impact or impose any burden on competition.

C. Self-Regulatory Organization's Statement on Comments on the Proposed Rule Change Received From Members, Participants, or Others

FICC has not solicited or received written comments relating to the proposed rule change. FICC will notify the Commission of any written comments it receives.

III. Date of Effectiveness of the Proposed Rule Change and Timing for Commission Action

The foregoing rule change has become effective pursuant to section 19(b)(3)(A)(iii) of the Act ³ and Rule 19b-4(f)(3)⁴ thereunder because it is concerned solely with the administration of FICC. At any time within 60 days of the filing of such proposed rule change, the Commission could have summarily abrogated such rule change if it appeared to the Commission that such action was necessary or appropriate in the public interest, for the protection of investors, or otherwise in furtherance of the purposes of the Act.

³ 15 U.S.C. 78s(b)(3)(A).

⁴ 17 CFR 200.19b-4(f)(3)(iii).

IV. Solicitation of Comments

Interested persons are invited to submit written data, views, and arguments concerning the foregoing, including whether the proposed rule change is consistent with the Act. Persons making written submissions should file six copies thereof with the Secretary, Securities and Exchange Commission, 450 5th Street NW., Washington, DC 20549-0069. Comments may also be submitted electronically at the following e-mail address: rule-comments@sec.gov. All comment letters should refer to File No. SR-FICC-2003-11. This file number should be included on the subject line if e-mail is used. To help the Commission process and review your comments more efficiently, comments should be sent in hardcopy or by e-mail but not by both methods. Copies of the submission, all subsequent amendments, all written statements with respect to the rule filing that are filed with the Commission, and all written communications relating to the rule filing between the Commission and any person, other than those that may be withheld from the public in accordance with provisions of 5 U.S.C. 552, will be available for inspection and copying in the Commission's Public Reference Room in Washington, DC. Copies of such filing will also be available for inspection and copying at FICC's principal office and on FICC's Web site at http://www.ficc.com/gov/gov.docs.jsp?NS-query=. All submissions should refer to File No. SR-FICC-2003-11 and should be submitted by March 23, 2004.

For the Commission by the Division of Market Regulation, pursuant to delegated authority.⁵

⁵ 17 CFR 200.30-3(a)(12).

Margaret H. McFarland,
Deputy Secretary.

[FR Doc. 04-4572 Filed 3-1-04; 8:45 am]

BILLING CODE 8010-01-P